POSTAL SERVICE

Notice of Availability: Programmatic Environmental Assessment for Mobile Fueling Operations, Nationwide

AGENCY: Postal Service.

ACTION: Notice of availability of a Programmatic Environmental Assessment.

SUMMARY: To comply with the requirements of the National Environmental Policy Act (NEPA), the Postal Service has prepared and is making available a Programmatic Environmental Assessment (PEA) for the use of mobile fueling contractors to fuel postal vehicles on-site at selected Postal Service facilities located throughout the United States. This PEA evaluated the environmental impacts of the proposed action versus taking no action. Based on the results of the PEA, the Postal Service has issued a Finding of No Significant Impact (FONSI) indicating that the proposed action will not have a significant impact on the environment.

DATES: The PEA and FONSI are available as of August 25, 2010.

ADDRESSES: Interested parties may direct questions or requests for additional information, including requests for copies of the PEA and FONSI documents, to: Ms. Melinda Hulsey Edwards, Manager, Environmental Compliance and Risk Mitigation, Environmental Policy and Programs, U.S. Postal Service, 225 N. Humphreys Blvd, Memphis, TN 38166-0865; (901) 747-7424.

SUPPLEMENTARY INFORMATION: The Postal Service proposes to utilize mobile fueling contractors to fuel vehicles on-site at select postal facilities located throughout the United States. The program would focus on, but not be limited to city and rural delivery units with 30 or more routes using vehicles owned by the Postal Service. Based on these criteria, it is anticipated that up to 1,100 sites may be eligible to convert to mobile fueling.

Mobile fueling, also known as fleet fueling, wet fueling, or wet hosing, is the practice of filling fuel tanks of vehicles directly from tank trucks. In this scenario, mobile refueling contractors would drive tank trucks onto Postal Service property to fuel parked delivery vehicles and drive the tank trucks off the site when fueling is completed. The only alternative identified is the “no action” alternative of continuing to fuel delivery vehicles off-site at commercial gas stations.

Pursuant to the requirements of the National Environmental Policy Act (NEPA) of 1969, its implementing procedures at 39 CFR 775, and the President's Council on Environmental Quality Regulations (40 CFR parts 1500-1508), the Postal Service has prepared a Programmatic Environmental Assessment (PEA) to evaluate the environmental impacts of the proposed action versus the “no action” alternative. Based on the results of the PEA, the USPS has issued a Finding of No Significant Impact (FONSI) indicating that the proposed action will not have a significant impact on the environment. Mitigation requirements will include compliance with applicable regulatory programs, as well as Postal Service policy and contract requirements specific to each facility selected to participate in the mobile fueling program.

Stanley F. Mires,
Chief Counsel, Legislative.

[FR Doc. 2010-21149 Filed 8-24-10; 8:45 am]

BILLING CODE 7710-12-P